DEPARTMENT OF HEALTH AND HUMAN SERVICES

National Institutes of Health

Submission for OMB Review; Comment Request; Recruitment and Screening for the Insight Into Determination of Exceptional Aging and Longevity (IDEAL) Study

SUMMARY: Under the provisions of Section 3507(a)(1)(D) of the Paperwork Reduction Act of 1995, the National Institute on Aging (NIA), the National Institutes of Health (NIH) has submitted to the Office of Management and Budget (OMB) a request for review and approval of the information collection listed below. This proposed information collection was previously published in the Federal Register on September 17, 2010, page 57038 and allowed 60-days for public comment. No public comments were received. The purpose of this notice is to allow an additional 30-days for public comment. The National Institutes of Health may not conduct or sponsor, and the respondent is not required to respond to, an information collection that has been extended, revised, or implemented on or after October 1, 1995 unless it displays a currently valid OMB control number.

Proposed Collection

Title: Recruitment and Screening for the Insight into Determination of Exceptional Aging and Longevity (IDEAL) Study. Type of Information Collection Request: NEW. Need and Use of Information Collection: The purpose of the project is to conduct recruitment and screening for the IDEAL Study. A multifaceted recruitment approach will be used to reach the target audience in a wide variety of ways. Those who are interested in participating in the IDEAL study will be asked to complete a two stage recruitment process consisting of a telephone interview and a physical exam. The Stage One interview consists of questions concerning demographics, physical ability, health status, and medical conditions. Those who are eligible after completing the telephone interview will be asked to complete the second stage of the screening process. The physical examination is a modified version of the full BLSA assessment protocol consisting of the following components: General appearance; vital signs; chest and heart auscultation; sensory systems including vision, hearing, sensory proprioception, neuropathy and balance; and movement and strength of the upper and lower extremities. In addition the potential participant will also be asked to complete physical performance tests, cognitive exams, an electrocardiogram and a blood draw. Frequency of Response: Once. Affected Public: Individuals or households. Type of Respondents: Healthy individuals who are at least 80 years of age. The annual reporting burden is as follows: Estimated Number of Respondents: 1,500; Estimated Number of Responses per Respondent: 1; Average Burden Hours per Response: 0.833; and Estimated Total Annual Burden Hours Requested: 701. There is no annualized cost to respondents. There are no Capital costs to report. There are no Operating or Maintenance Costs to report.

Type of respondent | Number of respondents | Frequency of response | Average time per response | Annual hour burden
Individuals who complete the phone interview | 1,500 | 1 | 0.167 | 251
Individuals who complete the physical exam | *300 | 1 | 1.5 | 450
Totals | 1,500 |  |  | 701
*These individuals are included in the 1,500 above.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and or suggestions regarding the item(s) contained in the notice, especially regarding the estimated public burden and associated response time should be directed to the: Office of Management and Budget, Office of Regulatory Affairs, OIRA submission@omb.eop.gov or by fax to 202-395-6974. Attention: Desk Officer for NIH. To request more information on the proposed project or obtain a copy of the data collection plans and instruments, contact Dr. Luigi Ferrucci, Principal Investigator, NIA Clinical Research Branch, Harbor Hospital, 5th Floor, 3001 S. Hanover, Baltimore, MD 21225, or call this non-toll-free number (410) 350-3936 or E-mail your request including your address to: Ferruccilu@grc.nia.nih.gov.

Comments Due Date: Comments regarding this information collection are best assured of having their full effect if received within 30-days of the date of this publication.

Dated: December 6, 2010.
Melissa Fraczkowski,
Project Clearance Liaison, NIA.

[FR Doc. 2010-31376 Filed 12-13-10; 8:45 am]

BILLING CODE 4140-01-P